DEPARTMENT OF COMMERCE

Foreign-Trade Zones Board

[Docket 68-2011]

Foreign-Trade Zone 177—Evansville, IN; Application for Manufacturing Authority; Hoosier Stamping & Mfg. Corp. (Wheel Assemblies and Accessories), Chandler, IN

An application has been submitted to the Foreign-Trade Zones Board (the Board) by the Ports of Indiana, grantee of FTZ 177, requesting manufacturing authority on behalf of Hoosier Stamping & Mfg. Corp. d/b/a Hoosier Wheel (Hoosier Stamping), located in Chandler, Indiana. The application was submitted pursuant to the provisions of the Foreign-Trade Zones Act, as amended (19 U.S.C. 81a-81u), and the regulations of the Board (15 CFR part 400). It was formally filed on October 25, 2011.

The Hoosier Stamping facility (25 employees, 9.44 acres, 9,500,000 unit capacity) is located within Site 8 of FTZ 177. The facility is used for the manufacturing, testing, warehousing, packaging, processing, inspecting, repairing and distributing of wheel assemblies and accessories. Components and materials sourced from abroad (representing up to 60% of the value of the finished product) include: pneumatic tires, tubes, rolled rim rings, semi-pneumatic tires, herring-bone tires, welding wires and bolts (duty rate ranges from duty-free to 3.7%). The application also requests authority to include a broad range of inputs and finished wheel assemblies that Hoosier Stamping may produce under FTZ procedures in the future. New major activity involving these inputs/products would require review by the FTZ Board.

FTZ procedures could exempt Hoosier Stamping from customs duty payments on the foreign components used in export production. The company anticipates that approximately one percent of the plant's shipments will be exported. On its domestic sales, Hoosier Stamping would be able to choose the duty rates during customs entry procedures that apply to finished wheel assemblies (duty-free) for the foreign inputs noted above. FTZ designation would further allow Hoosier Stamping to realize logistical benefits through the use of weekly customs entry procedures. Customs duties also could possibly be deferred or reduced on foreign status production equipment. The request indicates that the savings from FTZ procedures would help improve the plant's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is December 30, 2011. Rebuttal comments in response to material submitted during the foregoing period may be submitted during the subsequent 15-day period to January 17, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz.

For further information, contact Elizabeth Whiteman at Elizabeth.Whiteman@trade.gov or (202) 482-0473.

Dated: October 25, 2011.
Andrew McGilvray,
Executive Secretary.

[FR Doc. 2011-28084 Filed 10-28-11; 8:45 am]

BILLING CODE P